SOCIAL SECURITY ADMINISTRATION

Agency Information Collection Activities: Emergency Consideration Request

The Social Security Administration (SSA) publishes a list of information collection packages that will require clearance by the Office of Management and Budget (OMB) in compliance with Pub. L. 104-13, the Paperwork Reduction Act of 1995, effective October 1, 1995. The information collection request included in this notice is for revisions to an existing information collection.

SSA is soliciting comments on the accuracy of the agency's burden estimate; the need for the information; its practical utility; ways to enhance its quality, utility, and clarity; and on ways to minimize burden on respondents, including the use of automated collection techniques or other forms of information technology. Written comments and recommendations regarding the information collection should be submitted to the OMB Desk Officer and the SSA Reports Clearance Officer. The information can be mailed and/or faxed to the individuals at the addresses and fax numbers listed below:

(OMB) Office of Management and Budget, Attn: Desk Officer for SSA, Fax: 202-395-6974.

(SSA) Social Security Administration, DCFAM, Attn: Reports Clearance Officer 1333 Annex Building, 6401 Security Blvd., Baltimore, MD 21235, Fax: 410-965-6400, OPLM.RCO@ssa.gov.

The information collection listed below has been submitted to OMB for expedited Emergency Clearance. SSA is requesting Emergency Consideration from OMB by 11/14/2005. Your comments on the information collection are requested by that date. You can obtain a copy of the OMB clearance package by calling the SSA Reports Clearance Officer at 410-965-0454, or by writing to the address listed above.

Application for a Social Security Card—20 CFR 422.103-.110—0960-0066. Forms SS-5 (used in the United States) and SS-5-FS (used outside the United States) are used to apply for original and replacement Social Security cards. Changes are being made to these forms to reflect new statutory limits on the number of allowable replacement cards. The respondents are requestors of new or replacement Social Security cards.

Type of Collection: Emergency information collection (revision).

Number of Respondents: 13,600,000.

Frequency of Response: 1.

Average Burden Per Response: 9 minutes.

Estimated Annual Burden: 2,040,000 hours.

Dated: October 20, 2005.
Elizabeth A. Davidson,
Reports Clearance Officer, Social Security Administration.

[FR Doc. 05-21492 Filed 10-27-05; 8:45 am]

BILLING CODE 4191-02-P